DEPARTMENT OF AGRICULTURE

Food and Nutrition Service

Agency Information Collection Activities: Special Supplemental Nutrition Program for Women, Infants and Children (WIC) Proposed Collection; Comment Request Forms FNS-698, FNS-699, and FNS-700, The Integrity Profile (TIP)

AGENCY: Food and Nutrition Service, USDA.

ACTION: Notice.

SUMMARY: In accordance with the Paperwork Reduction Act of 1995, this notice announces the Food and Nutrition Service's (FNS) intention to request approval of revision of a currently approved collection, Forms FNS-698—State Agency Profile of Integrity Practices and Procedures Report Form, FNS-699—The Integrity Profile Report Form, and FNS-700—TIP Data Entry Form.

DATES: Comments on this notice must be received by August 23, 2005.

ADDRESSES: Comments are invited on: (a) Whether the proposed collection of information is necessary for the proper performance of the functions of the agency, including whether the information will have practical utility; (b) the accuracy of the agency's estimate of the burden of the proposed collection of information, including the validity of the methodology and assumptions used; (c) ways to enhance the quality, utility and clarity of the information to be collected; and (d) ways to minimize the burden of the collection of information on those who are to respond, including through the use of appropriate automated, electronic, mechanical, or other technological collection techniques or other forms of information technology. Comments may be sent to: Patricia N. Daniels, Director, Supplemental Food Programs Division, Food and Nutrition Service, U.S. Department of Agriculture, 3101 Park Center Drive, Room 520, Alexandria, VA 22302.

All responses to this notice will be summarized and included in the request for OMB approval and will become a matter of public record.

FOR FURTHER INFORMATION CONTACT: Requests for additional information or copies of the information collection form and instructions should be directed to: Patricia N. Daniels, (703) 305-2749.

SUPPLEMENTARY INFORMATION: Title: The Integrity Profile (TIP).

OMB Number: 0584-0401.

Expiration Date: 06-30-2007.

Type of Request: Revision of the Currently Approved Collection Form.

Abstract: State agencies administering the Special Supplemental Nutrition Program for Women, Infants and Children (WIC) are required by 7 CFR 246.12(j)(5) to submit to FNS an annual summary of the results of their vendor monitoring efforts in order to provide Congress, senior FNS officials, as well as the general public, assurance that every reasonable effort is being made to ensure integrity in the WIC Program. Since 1989, WIC State agencies have been required to submit such data annually. FNS compiles the data to produce a national report, which shows the level of monitoring and investigation conducted by WIC State agencies to detect and eliminate, or substantially reduce, vendor fraud and abuse. Most State agencies download the data from their automated system and transmit it electronically to FNS.

Comments are being solicited on integrating the TIP reporting system as a subsystem of the Food Stamp Store Tracking and Redemption System (STARS). Comments are also being solicited on the addition of the following proposed data elements to the TIP Data Entry Form (FNS-700) data submission:

(1) Identification of vendors (i.e., retail stores) authorized that derive more than 50 percent of their annual food sales revenue from WIC food instruments, and

(2) The number of months for which redemption data is being reported. In addition, the following data elements are proposed for inclusion to the State Agency Profile of Integrity Practices and Procedures Report Form (FNS-698) data submission regarding criteria used to select vendors for authorization:

(1) A vendor must provide a variety of foods other than WIC supplemental foods;

(2) A vendor must obtain infant formula only from the sources on the State agency's list of infant formula wholesalers, distribution, and retailers, licensed under State law/regulations and manufacturers registered with the Food and Drug Administration;

(3) A vendor must obtain prior approval to provide incentive items to WIC participants if the store derives more than 50 percent of its annual food sales revenue from WIC food instruments; and

(4) A vendor must be authorized by the Food Stamp Program. Most of these proposed revisions are a result of amendments made to seciton 17 ot the Child Nutrition Act of 1966 (42 U.S.C. 1786), as amended, by the Child Nutrition and WIC Reauthorization Act of 2004, Public Law 108-265 enacted June 30, 2004. Lastly, comments are sought on the inclusion of an EBT card as an option in reporting the type of food instrument used in the State agency's food delivery system.

Estimate of Burden: Public reporting burden for this collection of information is estimated to average 46.56 hours per response, including the time for reviewing instructions, searching existing data sources, gathering and maintaining the data needed, and completing and reviewing the collection of information. The total annual burden on respondents was previously 3,725 hours. This revision includes an adjustment that adds one respondent, which increases the total annual burden by 46.56 hours, and program changes, which increase the total annual burden by about 372 hours, for a total annual increase of 419 hours.

Respondents: Directors or Administrators of WIC State agencies.

Estimated Number of Respondents: 89 respondents.

Estimated Number of Responses per Respondent: One.

Estimated Total Annual Burden on Respondents: 4,144 hours.

Dated: June 3, 2005.
Roberto Salazar,
Administrator, Food and Nutrition Service.

[FR Doc. 05-12478 Filed 6-23-05; 8:45 am]

BILLING CODE 3410-30-M